DEPARTMENT OF THE INTERIOR

Bureau of Land Management

[NV-930-1430-ET; NVN-59476]

Expiration of Public Land Order No. 7253 and Opening of Land; Nevada

AGENCY: Bureau of Land Management, Interior.

ACTION: Notice.

SUMMARY: Public Land Order No. 7253, which withdrew 21,969.012 acres of public land from surface entry and mining, expired on April 7, 2002. The withdrawal was not extended because land use planning to demonstrate a need for continuation of the withdrawal was not completed. This notice will open the land to surface entry and mining.

EFFECTIVE DATE: June 7, 2002.

FOR FURTHER INFORMATION CONTACT: Jo Ann Hufnagle, Carson City Field Office, 5665 Morgan Mill Road, Carson City, Nevada 89701, 775-885-6000.

SUPPLEMENTARY INFORMATION: On April 7, 2002, Public Land Order No. 7253 expired under it own terms. The purpose of this withdrawal was to protect recreational, cultural, wildlife, riparian, and watershed values in the Pah Rah Range while the Bureau of Land Management completed land use planning for the land. The withdrawal was not extended because land use planning to demonstrate a need for continuation of the withdrawal was not completed. The land included in the withdrawal was described in the public land order published as FR Doc. 97-8960, 62 FR 16866-16867, April 8, 1997.

At 9 a.m. on June 7, 2002, the land described in Public Land Order No. 7253 will be opened to the operation of the public land laws generally, subject to valid existing rights, the provisions of existing withdrawals, other segregations of record, and the requirements of applicable law. All valid applications received at or prior to 9 a.m. June 7, 2002, shall be considered as simultaneously filed at that time. Those received thereafter shall be considered in the order of filing.

At 9 a.m. on June 7, 2002, the land described in Public Land Order No. 7253 will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: April 5, 2002.
John O. Singlaub,
Manager, Carson City Field Office.

[FR Doc. 02-11444 Filed 5-7-02; 8:45 am]

BILLING CODE 4310-HC-P